DEPARTMENT OF TRANSPORTATION

National Highway Traffic Safety Administration

[Docket No. NHTSA 2007-27073; Notice 2]

Nissan North America, Inc.; Grant of Petition for Decision of Inconsequential Noncompliance

Nissan North America, Inc. (Nissan) has determined that certain rims on certain vehicles that it produced in 2000 through 2005 do not comply with paragraphs S5.2(a) and S5.2(c) of 49 CFR 571.120, Federal Motor Vehicle Safety Standard (FMVSS) No. 120, Tire Selection and Rims for Motor Vehicles Other Than Passenger Cars. Pursuant to 49 U.S.C. 30118(d) and 30120(h), Nissan has petitioned for a determination that this noncompliance is inconsequential to motor vehicle safety and has filed an appropriate report pursuant to 49 CFR part 573, “Defect and Noncompliance Responsibility and Reports.” Notice of receipt of a petition was published, with a 30-day public comment period, on February 16, 2007, in the Federal Register (72 FR 7709). The National Highway Traffic Safety Administration (NHTSA) received no comments. To view the petition and all supporting documents and comments submitted, go to: http://dms.dot.gov/search/searchFormSimple.cfm and enter Docket No. NHTSA-2007-27073.

Affected are a total of approximately 5,000 optional dealer accessory wheels that have been sold and have been installed on approximately 1,250 model year 2000 through 2005 Nissan Xterra multipurpose passenger vehicles and Frontier pickup trucks. Specifically, paragraph S5.2 of FMVSS No. 120, rim marking, requires that each rim be marked with certain information on the weather side, including:

S5.2(a) requiring a one-letter designation which indicates the source of the rim's published nominal dimensions, and S5.2(c) requiring the symbol DOT.

The rims installed on the affected vehicles do not contain the markings required by paragraphs S5.2(a) or S5.2(c). Nissan has corrected the problem that caused these errors so that they will not be repeated in future production.

Nissan believes that the noncompliance is inconsequential to motor vehicle safety and that no corrective action is warranted. Nissan states that the affected rims are 16″ x 7″ aluminum alloy, which are commonly available and utilized in the United States. They are a correct specification for mounting 16″ original equipment tires specified for Xterra and Frontier models, and are capable of carrying the gross vehicle weight rating (GVWR) of the vehicle. Nissan first became aware of the noncompliance of these vehicles during a regulatory compliance review that Nissan conducted during March 2006.

Nissan states that no accidents or injuries have occurred, and no customer complaints have been received related to the lack of the markings or any problem that may have resulted from the lack of the markings. Nissan further states that the missing markings do not affect the performance of the wheels or the tire and wheel assemblies.

The rims are marked in compliance with paragraphs S5.2(b), rim size designation; S5.2(d), manufacturer identification; and S5.2(e) month, day and year or month and year of manufacture. The rims are also marked with a 4030S RSD20-10/20 part number.

The tire size is marked on the tire sidewalls, and the owner's manual and tire inflation pressure placard contain the appropriate tire size to be installed on the original equipment rims. Therefore, Nissan does not believe there is a possibility of a tire and rim mismatch as a result of the missing rim markings. All other requirements under FMVSS No. 120 are met.

NHTSA agrees that the noncompliance is inconsequential to motor vehicle safety. The rims are marked in compliance with paragraphs S5.2(b) rim size designation; S5.2(d) manufacturer identification; and S5.2(e) month, day and year or month and year of manufacture. The rims are also marked with a part number. The tire size is marked on the tire sidewalls, and the owner's manual and tire inflation pressure placard contain the appropriate tire size to be installed on the original equipment rims. Therefore, there is little likelihood of a tire and rim mismatch as a result of the missing rim markings. With regard to the omission of the DOT symbol, the agency regards the noncompliance with paragraph S5.2(c) as a failure to comply with the certification requirements of 49 U.S.C. 30115, and not a compliance failure requiring notification and remedy.

In consideration of the foregoing, NHTSA has decided that the petitioner has met its burden of persuasion that the noncompliance described is inconsequential to motor vehicle safety. Accordingly, Nissan's petition is granted and the petitioner is exempted from the obligation of providing notification of, and a remedy for, the noncompliance.

Authority: 49 U.S.C. 30118, 30120; delegations of authority at 49 CFR 1.50 and 501.8.

Issued on: April 24, 2007.
Daniel C. Smith,
Associate Administrator for Enforcement.

[FR Doc. E7-8202 Filed 4-30-07; 8:45 am]

BILLING CODE 4910-59-P